DEPARTMENT OF HEALTH AND HUMAN SERVICES

Administration for Children and Families

State Median Income Estimate for a Four-Person Family (FFY 2007); Notice of the Federal Fiscal Year (FFY) 2007 State Median Income Estimates for Use Under the Low Income Home Energy Assistance Program (LIHEAP) Administered by the Administration for Children and Families, Office of Community Services, Division of Energy Assistance

AGENCY: Office of Community Services, ACF, HHS.

ACTION: Notice of estimated State median income estimates for FFY 2007.

SUMMARY: This notice announces the estimated median income for four-person families in each State and the District of Columbia for FFY 2007 (October 1, 2006 to September 30, 2007). LIHEAP grantees may adopt the State median income estimates beginning with the date of this publication of the estimates in the Federal Register or at a later date as discussed below. This means that LIHEAP grantees could choose to implement this notice during the period between the heating and cooling seasons. However, by October 1, 2006, or by the beginning of a grantee's fiscal year, whichever is later, LIHEAP grantees using State median income estimates must adjust their income eligibility criteria to be in accord with the FFY 2007 State median income estimates.

This listing of estimated State median incomes provides one of the maximum income criteria that LIHEAP grantees may use in determining a household's income eligibility for LIHEAP.

DATES: Effective Date: The estimates are effective at any time between the date of this publication and October 1, 2006, or by the beginning of a LIHEAP grantee's fiscal year, whichever is later.

FOR FURTHER INFORMATION CONTACT: Leon Litow, Administration for Children and Families, HHS, Office of Community Services, Division of Energy Assistance, 5th Floor West, 370 L'Enfant Promenade, SW., Washington, DC 20447, Telephone: (202) 401-5304 E-Mail: llitow@acf.hhs.gov.

SUPPLEMENTARY INFORMATION: Under the provisions of section 2603(11) of Title XXVI of the Omnibus Budget Reconciliation Act of 1981 (Pub. L. 97-35, as amended), we are announcing the estimated median income of a four-person family for each State, the District of Columbia, and the United States for FFY 2007 (the period of October 1, 2006, through September 30, 2007).

Section 2605(b)(2)(B)(ii) of the LIHEAP statute provides that 60 percent of the median income for each State, as annually established by the Secretary of the Department of Health and Human Services, is one of the income criteria that LIHEAP grantees may use in determining a household's eligibility for LIHEAP.

LIHEAP is authorized through the end of FFY 2007 by the Energy Policy Act of 2005, Pub. L. 109-58, which was enacted on August 8, 2005.

Estimates of the median income for a four-person family for each State and the District of Columbia for FFY 2007 have been developed by the Census Bureau of the U.S. Department of Commerce, using the most recently available income data. In developing the median income estimates for FFY 2007, the Census Bureau used the following three sources of data: (1) The Current Population Survey's 2005 Annual Social and Economic Supplement File; (2) the 2000 Decennial Census of Population; and (3) 2004 per capita personal income estimates, by State, from the Bureau of Economic Analysis (BEA) of the U.S. Department of Commerce.

For further information on the estimating method and data sources, contact the Housing and Household Economic Statistics Division at the Census Bureau (301-763-3243). For information on recent U.S. income trends go to: http://www.census.gov/prod/2005pubs/p60-229.pdf

A state-by-state listing of median income and 60 percent of median income, for a four-person family for FFY 2007 follows. The listing describes the method for adjusting median income for families of different sizes as specified in regulations applicable to LIHEAP, at 45 CFR 96.85(b), which was published in the Federal Register on March 3, 1988 at 53 FR 6824.

Dated: February 17, 2006.
Josephine B. Robinson,
Director, Office of Community Services.

Estimated State Median Income for a Four-Person Family, by State, Federal Fiscal Year 2007 ¹
States | Estimated state median income for a four-person family ² | 60 percent of estimated state median income for a four-person family
Alabama | $58,652 | $35,191
Alaska | 78,057 | 46,834
Arizona | 57,119 | 34,271
Arkansas | 51,061 | 30,637
California | 69,377 | 41,626
Colorado | 73,213 | 43,928
Connecticut | 89,319 | 53,591
Delaware | 74,993 | 44,996
District of Columbia | 64,980 | 38,988
Florida | 60,803 | 36,482
Georgia | 60,447 | 36,268
Hawaii | 73,477 | 44,086
Idaho | 57,773 | 34,664
Illinois | 70,558 | 42,335
Indiana | 65,464 | 39,278
Iowa | 66,470 | 39,882
Kansas | 65,777 | 39,466
Kentucky | 57,540 | 34,524
Louisiana | 54,394 | 32,636
Maine | 66,107 | 39,664
Maryland | 87,972 | 52,783
Massachusetts | 86,747 | 52,048
Michigan | 71,324 | 42,794
Minnesota | 78,829 | 47,297
Mississippi | 50,801 | 30,481
Missouri | 63,460 | 38,076
Montana | 55,618 | 33,371
Nebraska | 64,417 | 38,650
Nevada | 60,520 | 36,312
New Hampshire | 81,313 | 48,788
New Jersey | 89,372 | 53,623
New Mexico | 51,452 | 30,871
New York | 67,857 | 40,714
North Carolina | 60,303 | 36,182
North Dakota | 68,371 | 41,023
Ohio | 67,589 | 40,553
Oklahoma | 56,101 | 33,661
Oregon | 61,250 | 36,750
Pennsylvania | 68,913 | 41,348
Rhode Island | 72,706 | 43,624
South Carolina | 57,539 | 34,523
South Dakota | 61,961 | 37,177
Tennessee | 57,569 | 34,541
Texas | 56,508 | 33,905
Utah | 63,233 | 37,940
Vermont | 72,465 | 43,479
Virginia | 74,290 | 44,574
Washington | 71,727 | 43,036
West Virginia | 52,176 | 31,306
Wisconsin | 71,267 | 42,760
Wyoming | 66,325 | 39,795
Note—FFY 2007 covers the period of October 1, 2006 through September 30, 2007. The estimated median income for a four-person family living in the United States is $66,111 for FFY 2007. The estimates are effective for the Low Income Home Energy Assistance Program (LIHEAP) at any time between the date of this publication and October 1, 2006, or by the beginning of a LIHEAP grantee's fiscal year, whichever is later.
¹ In accordance with 45 CFR 96.85, each State's estimated median income for a four-person family is multiplied by the following percentages to adjust for family size: 52% for one person, 68% for two persons, 84% for three persons, 100% for four persons, 116% for five persons, and 132% for six persons. For each additional family member above six persons, add 3% to the percentage for a six-person family (132%), and multiply the new percentage by the State's estimated median income for a four-person family.
² Prepared by the Census Bureau from the Current Population Survey's 2005 Annual Social and Economic Supplement File, 2000 Decennial Census of Population and Housing, and 2004 per capita personal income estimates, by State, from the Bureau of Economic Analysis (BEA). For further information, contact the Housing and Household Economic Statistics Division at the Census Bureau (301-763-3243).

[FR Doc. E6-2754 Filed 2-27-06; 8:45 am]

BILLING CODE 4184-01-P